SMALL BUSINESS ADMINISTRATION

Rustic Canyon Ventures SBIC, L.P. License No. 09/79-0450; Notice Seeking Exemption Under Section 312 of the Small Business Investment Act, Conflicts of Interest

Notice is hereby given that Rustic Canyon Ventures SBIC, L.P., 2425 Olympic Blvd., Suite 6050 West, Santa Monica, CA 90404, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2008)). Rustic Canyon Ventures SBIC, L.P. proposes to provide equity security financing to Fulcrum BioEnergy, Inc., 2425 Olympic Blvd., Suite 560 East, Santa Monica, CA 90404. The financing is contemplated for development and expansion of production facilities and for general corporate purposes.

The financing is brought within the purview of § 107.730(a)(l) of the Regulations because US Renewables Group HoldCo III, LLC (“USRG”), an Associate of Rustic Canyon Ventures SBIC, L.P., owns more than ten percent of Fulcrum BioEnergy, Inc. Therefore, Fulcrum BioEnergy, Inc., is also considered an Associate of Rustic Canyon Ventures SBIC, L.P., as defined at 13 CFR 107.50 of the SBIC Regulations.

Notice is hereby given that any interested person may submit written comments on the transaction to the Associate Administrator for Investment, U.S. Small Business Administration, 409 3rd Street, SW., Washington, DC 20416.

A. Joseph Shepard,
Associate Administrator for Investment.

[FR Doc. E8-18798 Filed 8-14-08; 8:45 am]

BILLING CODE 8025-01-M